NEIGHBORHOOD REINVESTMENT CORPORATION

Corporate Administration Committee Meeting of the Board of Directors; Sunshine Act

TIME AND DATE: 1 p.m., Tuesday, September 6, 2011.

PLACE: 1325 G Street, NW., Suite 800, Boardroom, Washington, DC 20005.

STATUS: Open.

CONTACT PERSON FOR MORE INFORMATION: Erica Hall, Assistant Corporate Secretary, (202) 220-2376; ehall@nw.org.

AGENDA:

I. CALL TO ORDER

II. Update—Human Resources

III. Benefits Activities

IV. Employee Engagement

V. Board Composition

VI. Strategic Planning Update

VII. Adjournment

Erica Hall,
Assistant Corporate Secretary.

[FR Doc. 2011-22749 Filed 9-1-11; 11:15 am]

BILLING CODE 7570-02-P